DEPARTMENT OF HOMELAND SECURITY

8 CFR Part 214

[CIS No. 2786-24; DHS Docket No. USCIS 2011-0010]

RIN 1615-AA59

Classification for Victims of Severe Forms of Trafficking in Persons; Eligibility for “T” Nonimmigrant Status; Correction

AGENCY: U.S. Citizenship and Immigration Services (USCIS), Department of Homeland Security (DHS).

ACTION: Correcting amendment.

SUMMARY: This document corrects the August 23, 2024 correction to the final rule that published in the Federal Register on April 30, 2024. The final rule amended DHS regulations governing the requirements and procedures for victims of a severe form of trafficking in persons seeking T nonimmigrant status. This document will replace language unintentionally removed as a result of the prior correction.

DATES: Effective January 14, 2025.

FOR FURTHER INFORMATION CONTACT: Rená Cutlip-Mason, Office of Policy and Strategy, U.S. Citizenship and Immigration Services, Department of Homeland Security, 5900 Capital Gateway Dr., Camp Springs, MD 20746; telephone 240-721-3000 (this is not a toll-free number).

SUPPLEMENTARY INFORMATION:

I. Need for Correction

On August 23, 2024, DHS published a correction to the final rule titled Classification for Victims of Severe Forms of Trafficking in persons; Eligibility for “T” Nonimmigrant Status. 89 FR 68081. The correction included amendatory instruction 5 in the first column of page 68083. A typographical error in that instruction caused the Office of the Federal Register to replace the whole of paragraph (a) with the text on page 68083. DHS did not intend to do that. Rather, DHS intended to correct only the introductory text of paragraph (a). This document fixes that typographical error.

This correction is applicable as if DHS had included this change in the final rule that published on April 30, 2024. That rule had an effective date of August 28, 2024. Accordingly, the correction is applicable as of August 28, 2024, at 12 a.m. Eastern Time. This correction does not change how DHS will apply the final rule, i.e., DHS will apply the corrected final rule to applications pending on, or filed on or after, August 28, 2024, except the bona fide determination provisions which DHS will generally only apply to applications filed on or after August 28, 2024.

II. Administrative Procedure Act

Section 553(b) of the Administrative Procedure Act (APA) generally requires agencies to publish a notice of proposed rulemaking in the Federal Register to provide a period for public comment before the provisions of a rule take effect. 5 U.S.C. 553(b). In addition, section 553(d) of the APA requires agencies to delay the effective date of final rules by a minimum of 30 days after the date of their publication in the Federal Register. 5 U.S.C. 553(d). Both of these requirements can be waived if an agency finds, for good cause, that the notice and comment process and/or delayed effective date is impracticable, unnecessary, or contrary to the public interest, and incorporates a statement of the finding and the reasons therefore in the notice. 5 U.S.C. 553(b)(B), (d)(3).

DHS believes there is good cause for publishing this document without prior notice and opportunity for public comment and with an effective date of less than 30 days because DHS finds that such procedures are unnecessary. This document corrects a typographical error in the regulatory text and does not make any substantive changes. This document merely conforms an erroneous portion of the final rule to the agency's clearly expressed contemporaneous intent.

List of Subjects in 8 CFR Part 214

Administrative practice and procedure, Aliens, Cultural exchange program, Employment, Foreign officials, Health professions, Reporting and recordkeeping requirements, Students.

Accordingly, 8 CFR part 214 is corrected by making the following correcting amendments:

PART 214—NONIMMIGRANT CLASSES

1. The authority citation for part 214 continues to read as follows:

Authority: 6 U.S.C. 202, 236; 8 U.S.C. 1101, 1102, 1103, 1182, 1184, 1186a, 1187, 1221, 1281, 1282, 1301-1305, 1357, and 1372; sec. 643, Pub. L. 104-208, 110 Stat. 3009-708; Pub. L. 106-386, 114 Stat. 1477-1480; section 141 of the Compacts of Free Association with the Federated States of Micronesia and the Republic of the Marshall Islands, and with the Government of Palau, 48 U.S.C. 1901 note and 1931 note, respectively; 48 U.S.C. 1806; 8 CFR part 2; Pub. L. 115-218, 132 Stat. 1547 (48 U.S.C. 1806).

2. Amend § 214.205 by adding paragraph (a)(1) through (3) to read as follows:

§ 214.205 Bona fide determination.

(a) * * *

(1) Request for evidence. If an Application for T Nonimmigrant Status was pending as of August 28, 2024, and additional evidence is required to establish eligibility for principal T nonimmigrant status, USCIS will issue a request for evidence, and conduct a bona fide review based on available evidence.

(2) Initial review criteria. After initial review, USCIS will deem an Application for T Nonimmigrant Status bona fide if:

(i) The applicant has submitted a properly filed and complete Application for T Nonimmigrant Status;

(ii) The applicant has submitted a signed personal statement; and

(iii) The results of initial background checks are complete, have been reviewed, and do not present national security concerns.

(3) Secondary review criteria. If initial review does not establish an Application for T Nonimmigrant Status is bona fide, USCIS will conduct a full T nonimmigrant status eligibility review. An Application for T Nonimmigrant Status that meets all eligibility requirements will be approved, or if the statutory cap has been reached, will receive a bona fide determination.

* * * * *

Christina E. McDonald,
Associate General Counsel for Regulatory Affairs, Department of Homeland Security.

[FR Doc. 2025-00553 Filed 1-13-25; 8:45 am]

BILLING CODE P